SURFACE TRANSPORTATION BOARD

[Docket No. AB 55 (Sub-No. 825X)]

CSX Transportation, Inc.—Discontinuance Exemption—in Oswego and Onondaga Counties, N.Y.

CSX Transportation, Inc. (CSXT), has filed a verified notice of exemption under 49 CFR part 1152 subpart F—Exempt Abandonments and Discontinuances of Service to discontinue service over an approximately 11.12-mile rail line on its Albany Division, Baldwinsville Subdivision from milepost QCB 11.00 to milepost QCB 22.12 in Oswego and Onondaga Counties, N.Y. (the Line). The Line traverses U.S. Postal Service Zip Codes 13027, 13069, and 13135.

CSXT has certified that: (1) no local freight traffic has moved over the Line during the past two years; (2) any overhead traffic can be rerouted over other lines; (3) no formal complaint filed by a user of rail service on the Line (or by a state or local government on behalf of such user) regarding cessation of service over the Line either is pending with the Surface Transportation Board or any U.S. District Court or has been decided in favor of a complainant within the two-year period; and (4) the requirements at 49 CFR 1105.12 (newspaper publication) and 49 CFR 1152.50(d)(1) (notice to government agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received,¹ this exemption will be effective on January 14, 2026, unless stayed pending reconsideration. Petitions to stay that do not involve environmental issues must be filed by December 24, 2025. Formal expressions of intent to file an OFA to subsidize continued rail service under 49 CFR 1152.27(c)(2) ² must be filed by December 26, 2025.³ Petitions for reconsideration must be filed by January 5, 2026.

¹ Persons interested in submitting an OFA to subsidize continued rail service must first file a formal expression of intent to file an offer, indicating the intent to file an OFA for subsidy and demonstrating that they are preliminarily financially responsible. See 49 CFR 1152.27(c)(2)(i).

² The filing fee for OFAs can be found at 49 CFR 1002.2(f)(25).

³ Because this is a discontinuance proceeding and not an abandonment, interim trail use/rail banking and public use conditions are not appropriate. Because there will be an environmental review during abandonment, this discontinuance does not require environmental review.

All pleadings, referring to Docket No. AB 55 (Sub-No. 825X), must be filed with the Surface Transportation Board either via e-filing on the Board's website or in writing addressed to 395 E Street SW, Washington, DC 20423-0001. A copy of each pleading filed with the Board must be served on CSXT's representative, Louis E. Gitomer, Law Offices of Louis E. Gitomer, LLC, 600 Baltimore Avenue, Suite 301, Towson, MD 21204.

If the verified notice contains false or misleading information, the exemption is void ab initio.

Board decisions and notices are available at www.stb.gov.

Decided: December 9, 2025.
By the Board, Anika S. Cooper, Chief Counsel, Office of Chief Counsel.
Zantori Dickerson,
Clearance Clerk.

[FR Doc. 2025-22698 Filed 12-12-25; 8:45 am]

BILLING CODE 4915-01-P